NUCLEAR REGULATORY COMMISSION

[Docket Nos. 50-259, 50-260, and 50-296]

Tennessee Valley Authority, Notice of Receipt of Application for Renewal of Browns Ferry Nuclear Plant, Units 1, 2 and 3, Facility Operating License Nos. DPR-33, DPR-52, and DPR-68 for an Additional 20-Year Period

The U.S. Nuclear Regulatory Commission (NRC or Commission) has received an application, dated January 6, 2004, from the Tennessee Valley Authority, filed pursuant to Section 104b of the Atomic Energy Act of 1954, as amended, and 10 CFR part 54, to renew Operating License Nos. DPR-33, DPR-52, and DPR-68 for the Browns Ferry Nuclear Plant, Units 1, 2 and 3, respectively. Renewal of the licenses would authorize the applicant to operate the facilities for an additional 20-year period. The current operating licenses for the Browns Ferry Nuclear Plant, Units 1, 2 and 3, expire on December 20, 2013, June 28, 2014, and July 2, 2016, respectively. The Browns Ferry Nuclear Plant, Units 1, 2 and 3, are boiling-water reactors designed by General Electric Corporation, and are located in Limestone County, Alabama. The acceptability of the tendered application for docketing, and other matters, including an opportunity to request a hearing, will be addressed in subsequent Federal Register notices.

Copies of the application are available for public inspection at the Commission's Public Document Room (PDR), located at One White Flint North, 11555 Rockville Pike (first floor), Rockville, Maryland, or electronically from the Publicly Available Records (PARS) component of the NRC's Agencywide Documents Access and Management System (ADAMS) under accession number ML040060355. The ADAMS Public Electronic Reading Room is accessible from the NRC web site at http://www.nrc.gov/reading-rm/adams.html. In addition, the application is available on the NRC web page at http://www.nrc.gov/reactors/operating/licensing/renewal/applications.html, while the application is under review. Persons who do not have access to ADAMS or who encounter problems in accessing the documents located in ADAMS, should contact the NRC's PDR Reference staff at 1-800-397-4209, 301-415-4737, or by email to pdr@nrc.gov.

The staff has also verified that a copy of the license renewal application for the Browns Ferry Nuclear Plant, Units 1, 2 and 3 has been provided to the Athens-Limestone Public Library, at 405 South Street E, Athens, Alabama, 35611.

Dated at Rockville, Maryland, this 7th day of January, 2004.
For the Nuclear Regulatory Commission.
Pao-Tsin Kuo,
Program Director, License Renewal and Environmental Impacts, Division of Regulatory Improvement Programs, Office of Nuclear Reactor Regulation.

[FR Doc. 04-681 Filed 1-12-04; 8:45 am]

BILLING CODE 7590-01-P